DEPARTMENT OF TRANSPORTATION

Research and Special Programs Administration

Pipeline Safety: Updates of Digital Mapping Data for Hazardous Liquid Pipeline High Consequence Areas (HCA)

AGENCY: Research and Special Programs Administration (RSPA), DOT.

ACTION: Notice; issuance of advisory bulletin.

SUMMARY: The Office of Pipeline Safety (OPS) is issuing this advisory bulletin to owners and operators of hazardous liquid pipeline systems. OPS has updated and revised the High Consequence Area (HCA) digital mapping datasets based on revised U.S. Government data. The datasets are now available for download for “High Population Areas,” “Other Populated Areas,” and “Commercially Navigable Waterways.” Operators have one year from the date of this bulletin to incorporate these new high consequence areas into their baseline integrity management assessment plans. The digital mapping datasets for Ecological and Drinking Water Unusually Sensitive Areas (USA) are not being updated at this time.

FOR FURTHER INFORMATION CONTACT: Sam Hall, (202) 493-0591; or by e-mail, samuel.hall@rspa.dot.gov. Steve Fischer, (202) 366-6267; or by e-mail, steven.fischer@rspa.dot.gov. This document can be viewed at the OPS home page at http://ops.dot.gov.

SUPPLEMENTARY INFORMATION:

I. Background

The Federal hazardous liquid pipeline safety regulations at 49 CFR 195.452 require hazardous liquid pipeline operators to assess, evaluate, remediate and validate, through comprehensive analysis, the integrity of hazardous liquid pipeline segments that, in the event of a leak or failure, could affect populated areas, areas unusually sensitive to environmental damage and commercially navigable waterways. OPS has identified these High Consequence Areas in its National Pipeline Mapping System (NPMS).

Updated digital mapping data to delineate high consequence areas for use in geographic information systems is now available for high population areas, other populated areas, and commercially navigable waterways. Population information updates are based on data from the U.S. Census Bureau's TIGER 2000 datasets. Updates for commercially navigable waterways are based on the 2002 version of the National Waterways Network as provided by the Bureau of Transportation Statistics. All updated data is available for download from the NPMS Web site at http://www.npms.rspa.dot.gov.

Operators have one year from the date of this bulletin to incorporate these new High Consequence Areas into their baseline integrity management assessment plans as required by 49 CFR 195.412. The digital mapping datasets for Ecological and Drinking Water Unusually Sensitive Areas (USA) are not being updated at this time.

II. Advisory Bulletin (ADB-03-01)

To: Owners and Operators of Hazardous Liquid Pipeline Systems.

Subject: Updates of Digital Mapping Data for Hazardous Liquid Pipeline High Consequence Areas (HCA).

Purpose: To advise owners and operators of hazardous liquid pipeline systems of the availability of updated and revised High Consequence Area digital mapping data for high population areas, other populated areas, and commercially navigable waterways.

Advisory: Updated digital mapping data for high population areas, other populated areas, and commercially navigable waterways are now available to owners and operators of hazardous liquid pipeline systems. The updated data is available for download from the NPMS Web site at http://www.npms.rspa.dot.gov. Operators have one year from the date of this bulletin to incorporate these new High Consequence Areas into their baseline integrity management assessment plans as required by 49 CFR 195.412. The digital mapping datasets for Ecological and Drinking Water Unusually Sensitive Areas (USA) are not being updated at this time.

Issued in Washington, DC, on January 13, 2003.
Stacey L. Gerard,
Associate Administrator for Pipeline Safety.

[FR Doc. 03-1322 Filed 1-21-03; 8:45 am]

BILLING CODE 4910-60-P